DEPARTMENT OF HOMELAND SECURITY

Coast Guard

33 CFR Part 117

[USCG-2009-0210]

Drawbridge Operation Regulations; Hackensack River, Jersey City, NJ, Maintenance

AGENCY: Coast Guard, DHS.

ACTION: Notice of temporary deviation from regulations.

SUMMARY: The Commander, First Coast Guard District, has issued a temporary deviation from the regulation governing the operation of the Witt Penn Bridge across the Hackensack River at mile 3.1, and the Lower Hack Bridge at mile 3.4, across the Hackensack River, at Jersey City, New Jersey. Under this temporary deviation the Lower Hack Bridge will be allowed to provide a maximum opening of only 110 feet at mean high water for a period of 30-days and both bridges will be allowed to remain in the closed position for a period of 45-days to facilitate major bridge maintenance. Vessels that can pass under the draws without a bridge opening may do so at all times.

DATES: This deviation is effective from May 9, 2009 through July 22, 2009.

ADDRESSES: Documents indicated in this preamble as being available in the docket are part of docket USCG-2009-0210 and are available online at www.regulations.gov, selecting the Advanced Docket Search Option on the right side of the screen, inserting USCG-2009-0210 in the Docket ID box, pressing Enter, and then clicking on the item in the Docket ID column. This material is also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call Zachary Strauss, Project Officer, First Coast Guard District, telephone 212-668-7165. If you have questions on viewing the docket, call Renee V. Wright, Program Manager, Docket Operations, telephone 202-366-9826.

SUPPLEMENTARY INFORMATION: The Witt Penn Bridge, across the Hackensack River at mile 3.1 has a vertical clearance in the closed position of 35 feet at mean high water and 40 feet at mean low water.

The Lower Hack Bridge at mile 3.4 has a vertical clearance in the closed position of 40 feet above mean high water and 45 feet above low water. The existing drawbridge operation regulations are listed at 33 CFR 117.723.

The waterway has seasonal recreational vessels, and commercial vessels of various sizes.

The owner of the bridges, New Jersey Department of Transportation, (Witt Penn Bridge) and New Jersey Transit (Lower Hack Bridge) requested a temporary deviation to facilitate the replacement of sheaves and wire ropes at both the Witt Penn and Lower Hack bridges and asbestos removal at the Lower Hack Bridge only.

The asbestos removal at the Lower Hack Bridge will prevent the bridge from fully opening during the removal process.

The asbestos removal is scheduled to commence 30-days before the bridge closures to replace the sheaves and wire ropes at the bridges.

The Lower Hack Bridge will only be able to open to 110 feet above mean high water and 115 feet at mean low water from May 9, 2009 through June 7, 2009, during the asbestos removal.

Therefore, under this temporary deviation the Lower Hack Bridge may open to only 110 feet above mean high water instead of the normal 135 feet above mean high water from May 9, 2009 through June 7, 2009. From June 8, 2009 through July 22, 2009, the Witt Penn Bridge, mile 3.1, and the Lower Hack Bridge, mile 3.4, across the Hackensack River may remain in the closed position for bridge maintenance. Vessels that can pass under the bridge without a bridge opening may do so at all times.

In accordance with 33 CFR 117.35(e), the bridge must return to its regular operating schedule immediately at the end of the designated time period. This deviation from the operating regulations is authorized under 33 CFR 117.35.

Dated: April 13, 2009.
Gary Kassof,
Bridge Program Manager, First Coast Guard District.

[FR Doc. E9-9717 Filed 4-28-09; 8:45 am]

BILLING CODE 4910-15-P